DEPARTMENT OF ENERGY

Federal Energy Regulatory Commission

Sunshine Act Meeting Notice

November 8, 2007.

The following notice of meeting is published pursuant to section 3(a) of the government in the Sunshine Act (Pub. L. 94-409), 5 U.S.C. 552b:

Agency Holding Meeting: Federal Energy Regulatory Commission.

Date and Time: November 15, 2007, 10 a.m.

Place: Room 2C, 888 First Street, NE., Washington, DC 20426.

Status: Open.

Matters to be Considered: Agenda.

*Note Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

926th—Meeting; Regular Meeting
[November 15, 2007, 10 a.m.]
Item No. | Docket No. | Company
Administrative
A-1 | AD02-1-000 | Agency Administrative Matters.
A-2 | AD02-7-000 | Customer Matters, Reliability, Security and Market Operations.
A-3 | AD06-3-000 | Energy Market Update.
Electric
E-1 | ER07-532-000 | Midwest Independent Transmission System Operator, Inc.
E-2 | ER07-576-000 ER07-576-001 | Baltimore Gas and Electric Company.
E-3 | EL07-62-000 | Southern California Edison Company.
E-4 | RC07-3-000 RC07-5-000 | Lee County, Florida. Solid Waste Authority of Palm Beach County, Florida.
E-5 | ER07-1383-000 ER07-1384-000 | Duke Energy Shared Services, Inc.
E-6 | ER08-10-000 | Pepco Holdings, Inc.
E-7 | EL04-99-001 | Mississippi Delta Energy Agency and Clarksdale Public Utilities Commission v. Entergy Services, Inc. and Entergy Operating Companies.
E-8 | RR07-9-003 RR07-10-003 | North American Electric Reliability Corporation.
E-9 | OMITTED
E-10 | EL07-91-000 | Pacific Gas and Electric Company.
E-11 | OMITTED
E-12 | ER07-547-002 | ISO New England Inc.
E-13 | ER05-1410-005 EL05-148-005 | PJM Interconnection, L.L.C.
E-14 | ER04-835-006 EL04-103-001 | California Independent System Operator Corporation. Pacific Gas and Electric Company v. California Independent System Operator Corporation.
E-15 | EL05-19-002 | Golden Spread Electric Cooperative, Inc., Lyntegar Electric Cooperative, Inc., Farmers' Electric Cooperative, Inc., Lea County Electric Cooperative, Inc., Central Valley Electric Cooperative, Inc. and Roosevelt County Electric Cooperative, Inc. v. Southwestern Public Service Company.
| ER05-168-001 | Southwestern Public Service Company.
E-16 | ER06-629-000 ER06-629-001 | California Independent System Operator Corporation.
| ER06-630-000 | California Independent System Operator Corporation, Pacific Gas and Electric Company, San Diego Gas and Electric Company and Southern California Edison Company.
E-17 | EL00-95-136 | San Diego Gas & Electric Company v. Sellers of Energy and Ancillary Services into Markets Operated by the California Independent System Operator and the California Power Exchange Corporation.
| EL00-98-123 | Investigation of Practices of the California Independent System Operator Corporation and the California Power Exchange.
E-18 | EC07-70-000 | Entergy Gulf States, Inc. and Calcasieu Power, LLC.
E-19 | OMITTED
Miscellaneous
M-1 | RM07-16-000 | Filing Via the Internet.
Gas
G-1 | RM08-1-000 | Promotion of a More Efficient Capacity Release Market.
G-2 | RP07-508-000 RP07-508-001 RP07-508-002 | Columbia Gulf Transmission Company.
G-3 | RP07-507-000 RP07-507-001 RP07-507-002 | Columbia Gas Transmission Corporation.
G-4 | RP07-478-000 RP07-478-001 RP07-478-002 | Columbia Gulf Transmission Company.
G-5 | RP07-479-000 RP07-479-001 RP07-479-002 | Columbia Gas Transmission Corporation.
G-6 | RP07-396-001 RP07-396-002 | Tennessee Gas Pipeline Company.
G-7 | RP07-443-000 RP07-443-001 | Iroquois Gas Transmission System, L.P.
G-8 | RP04-99-003 | Indicated Shippers v. Tennessee Gas Pipeline Company.
G-9 | RP07-504-000 | Algonquin Gas Transmission, LLC.
Hydro
H-1 | P-7115-038 | Homestead Energy Resources, LLC.
H-2 | P-1390-005 P-1390-007 P-1390-040 | Southern California Edison Company.
H-3 | P-11841-004 | Ketchikan Public Utilities.
H-4 | P-12734-003 | Midwest Hydraulics, Inc.
H-5 | P-2219-024 | Garkane Energy Cooperative, Inc.
Certificates
C-1 | CP01-368-006 | Transcontinental Gas Pipe Line Corporation.
| CP01-369-004 | Williams Gas Processing—Gulf Coast Company, L.P.
| CP03-11-006 | Jupiter Energy Corporation.
C-2 | CP06-45-005 | Northwest Pipeline Corporation.
C-3 | CP07-411-000 | Texas Eastern Transmission, LP.
C-4 | CP06-459-000 | Transwestern Pipeline Company, LLC.
| CP07-9-000 | El Paso Natural Gas Company.
C-5 | OMITTED

Kimberly D. Bose,
Secretary.

A free webcast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E7-22292 Filed 11-14-07; 8:45 am]

BILLING CODE 6717-01-P